DEPARTMENT OF TRANSPORTATION

Federal Aviation Administration

14 CFR Part 39

[Docket No. FAA-2008-0411; Directorate Identifier 2008-NM-061-AD; Amendment 39-15488; AD 2008-09-07]

RIN 2120-AA64

Airworthiness Directives; Boeing Model 757 Airplanes and Model 767-200, 767-300, and 767-300F Series Airplanes

AGENCY: Federal Aviation Administration (FAA), DOT.

ACTION: Final rule; request for comments.

SUMMARY: We are adopting a new airworthiness directive (AD) for all Boeing Model 757 airplanes and Model 767-200, 767-300, and 767-300F series airplanes. This AD requires revising the Limitations section of the airplane flight manual to advise the flight crew of procedures to follow to ensure that a fuel filter impending bypass condition due to gross fuel contamination is detected in a timely manner. This AD was prompted by an error in the operating program software (OPS) of the engine indication and crew alerting system (EICAS). The error prevents the display of an advisory message to the flight crew of a left engine fuel filter contamination and imminent bypass condition, which may indicate an imminent multiple engine thrust loss or engine malfunction event due to fuel contamination. We are issuing this AD to prevent malfunction and thrust loss on both engines, which could result in a forced off-airport landing.

DATES: This AD is effective May 8, 2008.

We must receive comments on this AD by June 23, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Judy Coyle, Aerospace Engineer, Propulsion Branch, ANM-140S, FAA, Seattle Aircraft Certification Office, 1601 Lind Avenue, SW., Renton, Washington 98057-3356; telephone (425) 917-6497; fax (425) 917-6590.

SUPPLEMENTARY INFORMATION:

Discussion

We have been advised that an operator discovered an error in the Engine Indication and Crew Alerting System (EICAS) operating program software (OPS) Version 6. This software error prevents the display of the “L ENG FUEL FILT” advisory message to the flight crew. This message was intended to be displayed if an impending clogging condition of the left engine fuel filter exists. (The corresponding message for the right engine functions normally.) Boeing has determined that this software error is isolated to the EICAS OPS Version 6. This software is currently approved for installation on all Boeing Model 757 airplanes, and Model 767-200, 767-300, and 767-300F series airplanes. (Model 767-400ER series airplanes use different software.) OPS Version 6 was approved in mid-2007 for production and retrofit installation. Boeing's records show that the majority of the affected airplanes currently have Version 6 software installed. Absence of an engine fuel filter bypass indication for each engine eliminates the only effective advance warning the flight crew will receive of potential engine malfunction due to a gross fuel contamination event on the airplane. Without such advance warning, malfunction and thrust loss on both engines due to fuel contamination could cause a forced off-airport landing.

FAA's Determination and Requirements of This AD

We are issuing this AD because we evaluated all the relevant information and determined the unsafe condition described previously is likely to exist or develop in other products of the(se) same type design(s). This AD requires revising the Limitations section of the airplane flight manual (AFM) to advise the flight crew of procedures to follow to ensure that a fuel filter impending bypass condition due to gross fuel contamination is detected in a timely manner.

The actions specified by paragraph (f) of this AD are not required when all affected airplanes in an operator's fleet have been verified by the operator to have an EICAS computer with a particular part number and EICAS OPS versions other than Version 6 software. This exception is currently available for Model 757 and 767 passenger airplanes and for new production freighter airplanes, but will be available for non-production-modified freighter airplanes only when OPS versions later than Version 6 software become available. Non-production-modified freighter airplanes include, but are not limited to, Model 757 airplanes modified in accordance with Supplemental Type Certificate (STC) ST01920LA, and Model 767 series airplanes modified in accordance with design approvals granted to Boeing for the Boeing Converted Freighter (BCF) or Special Freighter (SF) configurations. Only OPS Version 6 software or a later OPS version was approved by the FAA for use on non-production-modified freighter airplanes; this is because cargo door indications required for certification of those freighter conversion modifications were introduced at Version 6.

FAA's Justification and Determination of the Effective Date

Because of our requirement to promote safe flight of civil aircraft, and thus the critical need to ensure that the flight crew has procedures to follow to ensure that a fuel filter impending bypass condition due to gross fuel contamination is detected in a timely manner, and because of the short compliance time involved with this action, this AD must be issued immediately.

Because an unsafe condition exists that requires the immediate adoption of this AD, we find that notice and opportunity for prior public comment hereon are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2008-0411; Directorate Identifier 2008-NM-061-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-09-07 Boeing: Amendment 39-15488. Docket No. FAA-2008-0411; Directorate Identifier 2008-NM-061-AD.

Effective Date

(a) This airworthiness directive (AD) is effective May 8, 2008.

Affected ADs

(b) None.

Applicability

(c) This AD applies to all Boeing Model 757-200, -200PF, -200CB, and -300 series airplanes, and Model 767-200, 767-300, and 767-300F series airplanes, certificated in any category.

Unsafe Condition

(d) This AD was prompted by an error in the operating program software (OPS) of the engine indication and crew alerting system (EICAS). The error prevents the display of an advisory message to the flight crew of a left engine fuel filter contamination and imminent bypass condition, which may indicate an imminent multiple engine thrust loss or engine malfunction event due to fuel contamination. We are issuing this AD to prevent malfunction and thrust loss on both engines, which could result in a forced off-airport landing.

Compliance

(e) Comply with this AD within the compliance times specified, unless already done.

Revision of Airplane Flight Manual (AFM)

(f) Within 30 days after the effective date of this AD, revise the Limitations section of the applicable AFM to include the following. This may be done by inserting a copy of this AD into the AFM.

“If the STATUS cue shows while on the ground after engine start or during flight, select the status page on the secondary EICAS display, and verify the “L ENG FUEL FILT” message is not shown. If the “L ENG FUEL FILT” message is not shown on the status page, the secondary engine parameters may be reselected on the secondary EICAS display, or the display may be blanked. If the “L ENG FUEL FILT” message is shown on the status display, accomplish the ENGINE FUEL FILTER non-normal checklist as published in the Boeing Quick Reference Handbook. If on the ground, check the Dispatch Deviations Guide (DDG), or operator equivalent.

In the event that the status level “L ENG FUEL FILT” and advisory level “R ENG FUEL FILT” messages are simultaneously shown, an impending fuel filter bypass condition exists on both engines. With both messages shown, airplane fuel system contamination may be present and may result in erratic engine operation or flameout.

Further flight crew action in response to either or both the “L ENG FUEL FILT” status-level message and the “R ENG FUEL FILT” advisory level messages being shown are not established by Boeing or the FAA. Any further flight crew action should be determined by individual operator policy.

Boeing policy on flight crew use of status-level messages has not changed. After engine start, any condition having an adverse effect on safe continuation of the flight appears as an EICAS alert message (Warning, Caution, or Advisory). If other status-level messages are shown as a consequence of complying with these temporary operating instructions, the flight crew should respond in accordance with the appropriate operator policy.

Dispatch of the airplane with an inoperative EICAS display unit is prohibited.

(g) If all affected airplanes in an operator's fleet have been verified by the operator to have EICAS computer part number S242N701-1001 and only EICAS OPS versions other than Version 6 software that are FAA approved for that airplane, then accomplishment of the actions specified in paragraph (f) of this AD is not required.

Alternative Methods of Compliance (AMOCs)

(h)(1) The Manager, Seattle Aircraft Certification Office (ACO), FAA, ATTN: Judy Coyle, Aerospace Engineer, Propulsion Branch, ANM-140S, 1601 Lind Avenue, SW., Renton, Washington 98057-3356; telephone (425) 917-6497; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(i) None.

Issued in Renton, Washington, on April 14, 2008.
Ali Bahrami,
Manager, Transport Airplane Directorate, Aircraft Certification Service.

[FR Doc. E8-8653 Filed 4-22-08; 8:45 am]

BILLING CODE 4910-13-P